NATIONAL AERONAUTICS AND SPACE ADMINISTRATION

[Notice (09-109)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: December 11, 2009.

FOR FURTHER INFORMATION CONTACT: Randy Heald, Patent Counsel, Kennedy Space Center, Mail Code CC-A, Kennedy Space Center, FL 32899; telephone (321) 867-7214; fax (321) 867-1817.

NASA Case No. KSC-12878-1: Zero-Valent Metallic Treatment System and its Application for Removal of and Remediation of Polychlorinated Bipheryls (PCBs);

NASA Case No. KSC-12703: Integral Battery Power Limiting Circuit for Intrinsically Safe Applications.

Dated: December 4, 2009.
Richard W. Sherman,
Deputy General Counsel.

[FR Doc. E9-29539 Filed 12-10-09; 8:45 am]

BILLING CODE 7510-13-P